NATIONAL SCIENCE FOUNDATION

Advisory Committee for Social, Behavioral & Economic Sciences; Notice of Meeting

In accordance with the Federal Advisory Committee Act (Pub. L. 92-463, as amended), the National Science Foundation (NSF) announces the following meeting:

Name and Committee Code: Advisory Committee for Social, Behavioral & Economic Sciences (#1171).

Date and Time:

June 08, 2023—10:00 a.m.-4:00 p.m. (Eastern).

June 09, 2023—10:00 a.m.-3:00 p.m. (Eastern).

Place: NSF, 2415 Eisenhower Avenue, Alexandria, VA 22314 (Hybrid).

The meeting will be held in a hybrid format, with some Advisory Committee members participating in person and others participating virtually. For members of NSF and the external community, livestreaming and registration links will be available through the following page: https://www.nsf.gov/sbe/advisory.jsp.

Type of Meeting: Open.

Contact Persons: John Garneski, National Science Foundation, 2415 Eisenhower Avenue, Alexandria, VA 22314; Telephone: 703.292.4519.

Purpose of Meeting: To provide advice, recommendations and counsel on major goals and policies pertaining to scientific programs and activities.

Agenda

• Welcome, Introductions, Approval of Previous Advisory Committee (AC) Meeting Summary, and Preview of Agenda

• Directorate for Social, Behavioral, and Economic Sciences (SBE) Update

• Discussion on SBE Communications

• Discussion on Social & Economic Sciences (SES) Survey Infrastructure

• National Center for Science and Engineering Statistics (NCSES) Conversation on the Federal Data Ecosystem

Dated: May 3, 2023.
Crystal Robinson,
Committee Management Officer.

[FR Doc. 2023-09757 Filed 5-8-23; 8:45 am]

BILLING CODE 7555-01-P